DEPARTMENT OF THE INTERIOR

Bureau of Land Management

[LLNVB02000 L71220000.EX0000.LVTFF1201490; N-91038, 14-08807; MO# 4500059743]

Notice of Intent To Prepare an Environmental Impact Statement for the Proposed Gemfield Mine Project, Esmeralda County, NV

AGENCY: Bureau of Land Management, Interior.

ACTION: Notice of Intent.

SUMMARY: In compliance with the National Environmental Policy Act of 1969, as amended (NEPA), and the Federal Land Policy and Management Act of 1976, as amended, the Bureau of Land Management (BLM) Tonopah Field Office, Tonopah, Nevada, intends to prepare an Environmental Impact Statement (EIS) to analyze and disclose impacts associated with the Gemfield Mine Project, a proposed open pit gold mine and associated processing and ancillary facilities. The project would be located on public and private land in Esmeralda County, Nevada. This notice announces the beginning of the scoping process to solicit public comments and identify issues.

DATES: This notice initiates the public scoping process for the EIS. Comments on issues may be submitted in writing until January 23, 2014. The date(s) and location(s) of any scoping meetings will be announced at least 15 days in advance through local media, newspapers and the BLM Web site at: http://www.blm.gov/nv/st/en/fo/battle_mountain_field.html. In order to be considered during the preparation of the Draft EIS, all comments must be received prior to the close of the 30-day scoping period or 15 days after the last public meeting, whichever is later. The BLM will provide additional opportunities for public participation upon publication of the Draft EIS.

ADDRESSES: You may submit comments related to the proposed Gemfield Mine Project by any of the following methods:

• Email: BLM_NV_BMDO_GemfieldProject@blm.gov

• Fax: 775-482-7810

• Mail: BLM, Tonopah Field Office, 1553 S. Main Street/P.O. Box 911, Tonopah, NV 89049

Documents pertinent to this proposal may be examined at the Tonopah Field Office.

FOR FURTHER INFORMATION CONTACT: Mark J. Ennes, Assistant Field Manager, telephone: 775-482-7835; address: 1553 S. Main Street/P.O. Box 911, Tonopah, NV 89049; email: mennes@blm.gov. Contact Mr. Ennes if you wish to add your name to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Metallic Goldfield, Inc. proposes to construct, operate, reclaim, and close an open pit, heap leach, gold mining operation known as the Gemfield Mine Project.

The proposed project would be located 1.5 miles north of Goldfield, Nevada, in Esmeralda County. The proposed project area contains approximately 660 acres of public land managed by the Tonopah Field Office and 414 acres of private land for a total of approximately 1,074 acres of proposed disturbance.

Approximately 10 million tons of ore and waste rock would be mined annually and extracted using conventional open pit mining methods of drilling and blasting over the approximately 10-year production phase of the mine. An estimated 600,000 ounces is expected to be extracted from the ore. The life of the mine would be approximately 13 years including reclamation and closure activities.

The primary facilities associated with the proposed project would include the open pit, waste rock dump facility, mine office and facilities, crushing facilities and stockpile, heap leach pad, process facility, various process and make up water ponds, mine and access roads, and storm water diversion channels.

There are 14 rights-of-way (ROW) associated with the Gemfield Mining Project Plan of Operations. Of these ROWs, there are 20 actions which consist of relinquishment and closure of ROW case files, amendments of ROWs, and the addition of new ROWs. Major ROW actions would include the relocation of U.S. Highway 95; the relocation of a major fiber optic line known as the Defense Bypass Route that serves military installations along U.S. Highway 95; the Nevada Hospital Association fiber optic line connecting major hospitals along the U.S. Highway 95 corridor with Reno and Las Vegas; and the existing Goldfield waterline that serves the residents of the Town of Goldfield.

Metallic Goldfield, Inc. would employ up to 200 employees for the construction of the proposed project and approximately 150 employees during mine operations, including contractors.

An interdisciplinary approach will be used to develop the EIS in order to consider the variety of resource issues and concerns identified during the scoping period. Potential direct, indirect, and cumulative impacts from the proposed action will be analyzed in the EIS.

The purpose of the public scoping process is to determine relevant issues that will influence the scope of the environmental analysis, including potential alternatives, and the extent to which those issues and impacts will be analyzed in the EIS. At present, the BLM has identified the following preliminary issues: (1) Closure of the cyanide heap leach pad; (2) The relocation of 2.5 miles of U.S. Highway 95 and several associated ROWs and their impact on wildlife and vegetation; and (3) Socioeconomic concerns associated with the influx of workers expected to be employed by the mine.

The BLM will use the NEPA commenting process to help fulfill the public participation requirements of Section 106 of the National Historic Preservation Act (NHPA) (16 U.S.C. 470(f)) as provided for in 36 CFR 800.2(d)(3). Any information about historic and cultural resources within the area potentially affected by the proposed project will assist the BLM in identifying and evaluating impacts to such resources in the context of both NEPA and Section 106 of the NHPA.

The BLM will consult with Indian tribes on a government-to-government basis in accordance with Executive Order 13175 and other policies. Tribal concerns, including potential impacts to cultural resources, will be given due consideration. Federal, State, and local agencies, along with tribes and other stakeholders that may be interested in or affected by the proposed Gemfield Mine Project are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR part 1501.

Timothy J. Coward,
Field Manager, Tonopah Field Office.

[FR Doc. 2013-30618 Filed 12-23-13; 8:45 am]

BILLING CODE 4310-HC-P